DEPARTMENT OF STATE

[Public Notice 8512]

Bureau of Political-Military Affairs; Statutory Debarment Under the Arms Export Control Act and the International Traffic in Arms Regulations

ACTION: Notice.

SUMMARY: Notice is hereby given that the Department of State has imposed statutory debarment pursuant to § 127.7(c) of the International Traffic in Arms Regulations (“ITAR”) (22 CFR parts 120 to 130) on persons convicted of violating, or conspiracy to violate, Section 38 of the Arms Export Control Act, as amended, (“AECA”) (22 U.S.C. 2778).

DATES: Effective Date: The effective date is the date of this notice.

FOR FURTHER INFORMATION CONTACT: Daniel J. Buzby, Acting Director, Office of Defense Trade Controls Compliance, Bureau of Political-Military Affairs, Department of State (202) 632-2872.

SUPPLEMENTARY INFORMATION: Section 38(g)(4) of the AECA, 22 U.S.C. 2778(g)(4), prohibits the Department of State from issuing licenses or other approvals for the export of defense articles or defense services where the applicant, or any party to the export, has been convicted of violating certain statutes, including the AECA. The statute permits limited exceptions to be made on a case-by-case basis. In implementing this provision, Section 127.7 of the ITAR provides for “statutory debarment” of any person who has been convicted of violating or conspiring to violate the AECA. Persons subject to statutory debarment are prohibited from participating directly or indirectly in the export of defense articles, including technical data, or in the furnishing of defense services for which a license or other approval is required.

Statutory debarment is based solely upon conviction in a criminal proceeding, conducted by a United States Court, and as such the administrative debarment procedures outlined in Part 128 of the ITAR are not applicable.

The period for debarment will be determined by the Assistant Secretary for Political-Military Affairs based on the underlying nature of the violations, but will generally be for three years from the date of conviction. Export privileges may be reinstated only at the request of the debarred person followed by the necessary interagency consultations, after a thorough review of the circumstances surrounding the conviction, and a finding that appropriate steps have been taken to mitigate any law enforcement concerns, as required by Section 38(g)(4) of the AECA. Unless export privileges are reinstated, however, the person remains debarred.

Department of State policy permits debarred persons to apply to the Director, Office of Defense Trade Controls Compliance, for reinstatement beginning one year after the date of the debarment. Any decision to grant reinstatement can be made only after the statutory requirements of Section 38(g)(4) of the AECA have been satisfied.

Exceptions, also known as transaction exceptions, may be made to this debarment determination on a case-by-case basis at the discretion of the Assistant Secretary of State for Political-Military Affairs, after consulting with the appropriate U.S. agencies. However, such an exception would be granted only after a full review of all circumstances, paying particular attention to the following factors: Whether an exception is warranted by overriding U.S. foreign policy or national security interests; whether an exception would further law enforcement concerns that are consistent with the foreign policy or national security interests of the United States; or whether other compelling circumstances exist that are consistent with the foreign policy or national security interests of the United States, and that do not conflict with law enforcement concerns. Even if exceptions are granted, the debarment continues until subsequent reinstatement.

Pursuant to Section 38(g)(4) of the AECA and Section 127.7(c) of the ITAR, the following persons are statutorily debarred as of the date of this notice (Name; Date of Conviction; District; Case No.; Month/Year of Birth):

(1) Gabriel Justin Aguirre; October 16, 2012; U.S. District Court, District of Arizona; Case No. CR 11-01715-004-PHX-NVW; February 1987.

(2) Rene Alexandre; March 16, 2013; U.S. District Court, Southern District of Texas; Case No. 7:12CR00626-S2-001; January 1983.

(3) Jaime Ariel Amaya-Garcia; March 16, 2013; U.S. District Court, Southern District of Texas; Case No. 7:12CR00626-002; April 1959.

(4) Jonathan Arellano; January 14, 2013; U.S. District Court, District of Arizona; Case No. CR 11-01715-008-PHX-NVW; October 1991.

(5) Everardo Eleazar Avendano-Camacho; March 25, 2013; U.S. District Court, District of Arizona; Case No. CR 12-00812-001-PHX-DGC; December 1980.

(6) Michael Bartch, Sr.; April 22, 2013; U.S. District Court, Western District of Texas; Case No. W-12-CR-018(01); November 1949.

(7) Aliaksandr Belski, (aka Alex Belski); July 18, 2013; U.S. District Court, Eastern District of Pennsylvania; Case No. 2:11CR000449-002; December 1980.

(8) Brian Keith Bishop; May 7, 2013; U.S. District Court, Eastern District of Virginia; Case No. 1:12CR00395-001; November 1973.

(9) Ivon Castaneda; December 20, 2012; U.S. District Court, Southern District of Florida; Case No. 1:12-20383-CR-LENARD-4; March 1967.

(10) Martyn Caulfield, (aka Martin Caulfield, Martin Butt); October 29, 2012; U.S. District Court, Northern District of Florida; Case No. 3:12cr47-001LAC; December 1956.

(11) Ernest Chornoletskyy, (aka Erik Chornoletskyy); August 21, 2013; U.S. District Court, Eastern District of Pennsylvania; Case No. 2:11CR000449-006; September 1984.

(12) Guadalupe Santos Cisneros; December 4, 2012; U.S. District Court, District of Arizona; Case No. CR 11-01715-010-PHX-NVW; March 1991.

(13) Demetrio Cortez-Salgado, (aka Demetrio Cortez-Ordaz); September 11, 2013; U.S. District Court, Eastern District of California; Case No. 1:11-CR-00376-003; December 1966.

(14) Erasmo Gallegos-Gutierrez; October 16, 2012; U.S. District Court, District of Arizona; Case No. CR 11-01715-005-PHX-NVW; February 1972.

(15) Manuel Homero Garces; February 6, 2013; U.S. District Court, Southern District of Texas; Case No. 7:12CR01228-001; October 1990.

(16) Elvin Garrido; June 4, 2013; U.S. District Court, Southern District of Florida; Case No. 13-20070-CR-Martinez; June 1977.

(17) Ramiro Garza-Gonzalez; May 17, 2013; U.S. District Court, Southern District of Texas; Case No. 7:12CR01579-001; January 1976.

(18) James Charles Gidaro; January 8, 2013; U.S. District Court, District of Arizona; Case No. CR 11-01715-013-PHX-NVW; April 1971.

(19) Marco Antonio Hernandez-Vallejo; May 27, 2013; U.S. District Court, Southern District of Texas; Case No. 7:12CR02010-001; September 1992.

(20) Sixing Liu, (aka Steve Liu); March 26, 2013; U.S. District Court, District of New Jersey; Case No. 2:11CR208(SRC)(1); May 1963.

(21) Jesus Humberto Lopez-Estrada; February 5, 2013; U.S. District Court, District of Arizona; Case No. CR 11-01715-001-PHX-NVW; December 1978.

(22) Kevin Robert Mejia; October 26, 2012; U.S. District Court, District of Arizona; Case No. CR 11-01715-007-PHX-NVW; October 1986.

(23) Javier Molina; August 21, 2012; U.S. District Court, Southern District of Mississippi; Case No. 1:11CR103-1; October 1962.

(24) Joshua Isaac Ortega; January 8, 2013; U.S. District Court, Southern District of Texas; Case No. 7:12CR01135-001; September 1991.

(25) Mario Obdulio Padilla; December 18, 2012; U.S. District Court, Southern District of Florida; Case No. 1:12-20383-CR-LENARD-3; August 1947.

(26) Esther Rizo; January 11, 2013; U.S. District Court, Southern District of California; Case No. 12CR0806-H; December 1985.

(27) Carlos Rubio-Tovias; November 28, 2012; U.S. District Court, Southern District of Texas; Case No. 7:12CR01135-002; November 1987.

(28) Jose Luis Santos-Garcia; August 22, 2012; U.S. District Court, Southern District of Mississippi; Case No. 1:11CR103-2; September 1968.

(29) Michael Barry Shor; April 6, 2012; U.S. District Court, Northern District of California; Case No. CR-10-00434-001; October 1951.

(30) Floyd Dean Stilwell; May 14, 2013; U.S. District Court, District of Arizona; Case No. CR 10-01463-001-PHX-PGR; September 1926.

(31) Joel Robert Stone; January 25, 2013; U.S. District Court, Western District of Texas; Case No. W-12-CR-017(01); December 1965.

(32) Christopher Harold Tappin; January 9, 2013; U.S. District Court, Western District of Texas; Case No. EP-07-CR-249-DB(1); November 1946.

(33) Anthony J. Torresi; July 18, 2013; U.S. District Court, District of Maryland; Case No. ELH-1-11-CR-0513-001; August 1978.

(34) Vitali Tsishuk; February 14, 2013; U.S. District Court, Eastern District of Pennsylvania; Case No. 2:11CR000449-005; November 1982.

(35) Juan Luis Vargas-Yanez; May 14, 2013; U.S. District Court, Southern District of Texas; Case No. 7:12CR01580-001; October 1983.

(36) Ming Xie, (aka Michael Xie); May 22, 2013; U.S. District Court, District of New Jersey; Case No. CR. 1:11-00608-001(RMB); May 1957.

(37) Kevin Zhang, (aka Zhao Wei Zhang); April 17, 2013; U.S. District Court, Southern District of California; Case No. 11CR0212-MMA; January 1971.

As noted above, at the end of the three-year period following the date of this notice, the above named persons/entities remain debarred unless export privileges are reinstated.

Debarred persons are generally ineligible to participate in activity regulated under the ITAR (see e.g., sections 120.1(c) and (d), and 127.11(a)). Also, under Section 127.1(d) of the ITAR, any person who has knowledge that another person is subject to debarment or is otherwise ineligible may not, without disclosure to and written approval from the Directorate of Defense Trade Controls, participate, directly or indirectly, in any ITAR-controlled export in which such ineligible person may benefit there from or have a direct or indirect interest therein.

This notice is provided for purposes of making the public aware that the persons listed above are prohibited from participating directly or indirectly in activities regulated by the ITAR, including any brokering activities and in any export from or temporary import into the United States of defense articles, related technical data, or defense services in all situations covered by the ITAR. Specific case information may be obtained from the Office of the Clerk for the U.S. District Courts mentioned above and by citing the court case number where provided.

Dated: October 28, 2013.
Tom Kelly,
Acting Assistant Secretary, Bureau of Political-Military Affairs, Department of State.

[FR Doc. 2013-26774 Filed 11-6-13; 8:45 am]

BILLING CODE 4710-25-P